DEPARTMENT OF ENERGY

Federal Energy Regulatory Commission

[Project No. 15253-000]

Notice of Preliminary Permit Application Accepted for Filing and Soliciting Comments, Motions To Intervene, and Competing Applications; Great Divide Energy Park LLC

On December 10, 2021, Great Divide Energy Park LLC filed an application for a preliminary permit, pursuant to section 4(f) of the Federal Power Act (FPA), to study the feasibility of the Great Divide Closed Loop Pumped Storage Hydro Project to be located near Jeffery City, in Fremont County, Wyoming. The proposed project would be located in part on federal lands administered by the U.S. Bureau of Land Management. The sole purpose of a preliminary permit, if issued, is to grant the permit holder priority to file a license application during the permit term. A preliminary permit does not authorize the permit holder to perform any land-disturbing activities or otherwise enter upon lands or waters owned by others without the owners' express permission.

The proposed pumped storage project would consist of the following new facilities: (1) A 5,062-foot-long earthen and/or roller compacted concrete embankment, creating a reservoir with a normal maximum water surface area of 8,900 feet and a storage capacity of 6,000 acre-feet; (2) a 4,093-foot-long, 18-foot diameter steel penstock that would convey water from the upper reservoir to the turbine/pump units in the powerhouse and to the lower reservoir; (3) a 760-foot-long, 200-foot-wide powerhouse located adjacent to the lower reservoir containing three 133-MW quaternary turbine/pump unit pairs for a combined capacity of approximately 399 megawatts; (4) a 5,371-foot-long earthen and/or roller compacted concrete embankment, creating a lower reservoir with a normal maximum water surface area of 7,850 feet and a storage capacity of 6,000 acre-feet; (5) gravel access roads to provide access to the upper or lower reservoirs from existing roads; (6) a 2.37 mile-long, 230 kilovolts (kV) transmission line; and (7) appurtenant facilities. The estimated annual generation of the Great Divide Closed Loop Pumped Storage Hydro Project would be approximately 1,861 gigawatt-hours, (GWhs).

Applicant Contact: Mr. Carl Borgquist, CEO Great Divide Energy Park LLC, 612 East Main St., Suite C, P.O. Box 309, Bozeman, MT 59771; phone: (406) 585-3006; email: carl@absarokaenergy.com.

FERC Contact: Lauren Townson; phone: (202)-502-8572; email: Lauren.townson@ferc.gov.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-15253-000.

More information about this project, including a copy of the application, can be viewed or printed on the “eLibrary” link of Commission's website at http://www.ferc.gov/docs-filing/elibrary.asp. Enter the docket number (P-15253) in the docket number field to access the document. For assistance, contact FERC Online Support.

Dated: January 6, 2022.
Kimberly D. Bose,
Secretary.

[FR Doc. 2022-00407 Filed 1-11-22; 8:45 am]

BILLING CODE 6717-01-P